DEPARTMENT OF LABOR

Pension and Welfare Benefits Administration

Working Group on Education and Training of Plan Fiduciaries Advisory Council on Employee Welfare and Pension Benefits Plans; Notice of Meeting

Pursuant to the authority contained in section 512 of the Employee Retirement Income Security Act of 1974 (ERISA), 29 U.S.C. 1142, the Working Group of the Advisory Council on Employee Welfare and Pension Benefit Plans assigned to study the issue of educating and training plan fiduciaries will hold an open public meeting on Thursday, November 7, 2002, in Room N-5437 A-C, U.S. Department of Labor Building, 200 Constitution Avenue NW., Washington, DC 20210.

The purpose of the open meeting, which will run from 9 a.m. to approximately noon, is for Working Group members to finalize their report and recommendations for presentation to the full Advisory Council and ultimately, to the Secretary of Labor.

Members of the public are encouraged to file a written statement pertaining to the topic by sending 20 copies on or before October 30, 2002, to Sharon Morrissey, Executive Secretary, ERISA Advisory Council, U.S. Department of Labor, Room N-5677, 200 Constitution Avenue, NW., Washington, DC 20210. Individuals or representatives of organizations wishing to address the Working Group should forward their request to the Executive Secretary or telephone (202) 693-8668. Oral presentations will be limited to 20 minutes, but an extended statement may be submitted for the record. Individuals wish disabilities who need special accommodations should contact Sharon Morrissey by October 30 at the address indicated in this notice.

Organizations or individuals may also submit statements for the record without testifying. Twenty (20) copies of such statements should be sent to the Executive Secretary of the Advisory Council at the above address. Written statements will be accepted and included in the record of the meeting if received on or before October 30.

Signed at Washington, DC this 18th day of October, 2002.
Ann L. Combs,
Assistant Secretary, Pension and Welfare Benefits Administration.

[FR Doc. 02-27100 Filed 10-23-02; 8:45 am]

BILLING CODE 4510-29-M